DEPARTMENT OF THE INTERIOR

National Park Service

Notice of Inventory Completion: Binghamton University, State University of New York, Binghamton, NY

AGENCY: National Park Service, Interior.

ACTION: Notice.

Notice is here given in accordance with the Native American Graves Protection and Repatriation Act (NAGPRA), 25 U.S.C. 3003, of the completion of an inventory of human remains and associated funerary objects in the possession of Binghamton University, State University of New York, Binghamton, NY. The human remains and associated funerary objects were removed from the Susquehanna Valley, Delaware County, NY.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Binghamton University, State University of New York professional staff in consultation with representatives of the Delaware Nation, Oklahoma; Oneida Nation of New York; Oneida Tribe of Indians of Wisconsin; Saint Regis Mohawk Tribe, New York (formerly the St. Regis Band of Mohawk Indians of New York); and Mohawk Nation Council of Chiefs, a non-Federally recognized Indian group.

In 1974, human remains representing a minimum of two individuals were removed from the vicinity of the Sidney Airport site (SUBi-094) in Delaware County, NY. The human remains were uncovered during construction of the Interstate-88 highway. An individual, named Robert Dann (possibly a construction worker), gave the human remains to archeologists who were working nearby at the Sidney Airport site. No known individuals were identified. The 50 associated funerary objects are 45 pottery sherds (FS 377-01), 3 hammerstones (FS 377-03), 1 pitted stone (FS 377-04), and 1 worked stone (FS 377-08).

The artifacts are determined to be associated funerary objects based on museum records. A note in the files of the Public Archaeology Facility states that these artifacts were from the burial pit, supporting a determination that the human remains are Native American. The pottery is culturally unidentifiable, although classified as Owasco Herringbone, Kelso Corded, Castle Creek Incised, Castle Creek Beaded, and Oak Hill Corded (A.D. 1100-1450). Based on the pottery, the officials of Binghamton University cannot demonstrate that the people represented in this collection had a shared cultural identity with the Mohawk or any other present-day Indian Tribe. However, there is probably a general relationship to early regional groups, some of whom later became known as the Haudenosaunee Confederacy, a non-Federally recognized Indian group.

Officials of Binghamton University have determined that, pursuant to 25 U.S.C. 3001 (9-10), the human remains described above represent the physical remains of two individuals of Native American ancestry. Officials of Binghamton University also have determined that, pursuant to 25 U.S.C. 3001 (3)(A), the 50 objects described above are reasonably believed to have been placed with or near individual human remains at the time of death or later as part of the death rite or ceremony. Lastly, officials of Binghamton University have determined that, pursuant to 25 U.S.C. 3001 (2), a relationship of shared group identity cannot be reasonably traced between the Native American human remains and associated funerary objects and any present-day Indian Tribe.

The Native American Graves Protection and Repatriation Review Committee (Review Committee) is responsible for recommending specific actions for disposition of culturally unidentifiable human remains. On August 3, 2007, the Mohawk Nation Council of Chiefs and Saint Regis Mohawk Tribe submitted a request to Binghamton University for disposition of the culturally unidentifiable human remains and associated funerary objects from the Sidney Airport site. The Mohawk Nation Council of Chiefs and Saint Regis Mohawk Tribe have stated that they have a responsibility for caring for the human remains of any Native American ancestors buried within their historical aboriginal territory. On September 19, 2007, Binghamton University petitioned the Review Committee concerning the Mohawk's request for disposition of the individuals and associated funerary objects determined to be “culturally unidentifiable.” Included in the petition were letters of concurrence from the Delaware Nation, Oklahoma; Oneida Nation of New York; and Oneida Tribe of Indians of Wisconsin.

The Review Committee considered the request at its October 15-16, 2007 meeting and recommended disposition of the human remains and associated funerary objects to the St. Regis Mohawk Tribe, New York, as the aboriginal occupant of the area encompassing the Sidney Airport site. A November 28, 2007 letter on behalf of the Secretary of the Interior from the Designated Federal Official, transmitted the authorization for the university to effect disposition of the culturally unidentifiable individuals to the St. Regis Mohawk Tribe, New York contingent on the publication of a Notice of Inventory Completion in the Federal Register. This notice fulfills that requirement.

Representatives of any other Indian tribe that believes itself to be culturally affiliated with the human remains and/or associated funerary objects should contact Nina M. Versaggi, Public Archaeology Facility, Binghamton University, Binghamton, NY 13902-6000, telephone (607) 777-4786, before March 4, 2009. Repatriation of the human remains and/or associated funerary objects to the Saint Regis Mohawk Tribe, New York, on behalf of themselves and the Mohawk Nation Council of Chiefs, a non-Federally recognized Indian group, may proceed after that date if no additional claimants come forward.

Binghamton University is responsible for notifying the Delaware Nation, Oklahoma; Oneida Nation of New York; Oneida Tribe of Indians of Wisconsin; Saint Regis Mohawk Tribe, New York; and Mohawk Nation Council of Chiefs, a non-Federally recognized Indian group that this notice has been published.

Dated: December 18, 2008
Sherry Hutt,
Manager, National NAGPRA Program.

[FR Doc. E9-2118 Filed 1-30-09; 8:45 am]

BILLING CODE 4312-50-S